DEPARTMENT OF ENERGY

Federal Energy Regulatory Commission

Combined Notice of Filings #1

Take notice that the Commission received the following electric rate filings:

Docket Numbers: ER12-1943-001; ER12-2529-001.

Applicants: KODE Novus I, LLC, KODE Novus II, LLC.

Description: Notice of Change in Status of KODE Novus I, LLC, et al.

Filed Date: 3/1/18.

Accession Number: 20180301-5180.

Comments Due: 5 p.m. ET 3/22/18.

Docket Numbers: ER18-224-001.

Applicants: Midcontinent Independent System Operator, Inc.

Description: Tariff Amendment: 2018-02-28_Deficiency Response re Certain MISO TOs revisions to Att Os for ADIT to be effective 1/1/2018.

Filed Date: 2/28/18.

Accession Number: 20180228-5185.

Comments Due: 5 p.m. ET 3/21/18.

Docket Numbers: ER18-224-002.

Applicants: Midcontinent Independent System Operator, Inc.

Description: Tariff Amendment: 2018-02-28 Amendment to Certain MISO TOs revisions to Attachment O for ADIT to be effective 1/1/2018.

Filed Date: 2/28/18.

Accession Number: 20180228-5186.

Comments Due: 5 p.m. ET 3/21/18.

Docket Numbers: ER18-718-002.

Applicants: Guzman Energy Partners LLC.

Description: Tariff Amendment: Market-Based Rate Tariff #1 Amendment to be effective 10/4/2017.

Filed Date: 3/1/18.

Accession Number: 20180301-5105.

Comments Due: 5 p.m. ET 3/22/18.

Docket Numbers: ER18-936-000.

Applicants: Alabama Power Company.

Description: § 205(d) Rate Filing: SP Pawpaw Solar LGIA Amendment Filing to be effective 2/1/2018.

Filed Date: 2/28/18.

Accession Number: 20180228-5207.

Comments Due: 5 p.m. ET 3/21/18.

Docket Numbers: ER18-937-000.

Applicants: Midcontinent Independent System Operator, Inc.

Description: Compliance filing: 2018-02-28 Refund requirements for non-public utility TOs re EL16-99; EL18-18 to be effective 10/26/2017.

Filed Date: 2/28/18.

Accession Number: 20180228-5211.

Comments Due: 5 p.m. ET 3/21/18.

Docket Numbers: ER18-937-001.

Applicants: Midcontinent Independent System Operator, Inc.

Description: Compliance filing: 2018-02-28 Refund requirements for non-public utility TOs re EL16-99; EL18-18 to be effective 10/26/2017.

Filed Date: 2/28/18.

Accession Number: 20180228-5226.

Comments Due: 5 p.m. ET 3/21/18.

Docket Numbers: ER18-938-000.

Applicants: Matador Power Marketing, Inc.

Description: Baseline eTariff Filing: Baseline new to be effective 4/1/2018.

Filed Date: 2/28/18.

Accession Number: 20180228-5222, 20180228-5283.

Comments Due: 5 p.m. ET 3/21/18.

Docket Numbers: ER18-939-000.

Applicants: Southwest Power Pool, Inc.

Description: Compliance filing: Membership Agreement Revisions in Response to Orders in EL16-91 and EL18-19 to be effective 8/1/2018.

Filed Date: 2/28/18.

Accession Number: 20180228-5234.

Comments Due: 5 p.m. ET 3/21/18.

Docket Numbers: ER18-940-000.

Applicants: ISO New England Inc.

Description: Twelfth Forward Capacity Auction Results of ISO New England Inc.

Filed Date: 2/28/18.

Accession Number: 20180228-5279.

Comments Due: 5 p.m. ET 4/13/18.

Docket Numbers: ER18-942-000.

Applicants: Mid-Atlantic Interstate Transmission, LLC, PJM Interconnection, L.L.C.

Description: § 205(d) Rate Filing: MAIT submits ECSA Nos. 4922, 4923 and 4924 to be effective 5/1/2018.

Filed Date: 3/1/18.

Accession Number: 20180301-5103.

Comments Due: 5 p.m. ET 3/22/18.

Docket Numbers: ER18-943-000.

Applicants: AEP Texas Inc.

Description: § 205(d) Rate Filing: AEPTX-Pacific Wind Development (Karankawa 2) IA to be effective 2/8/2018.

Filed Date: 3/1/18.

Accession Number: 20180301-5104.

Comments Due: 5 p.m. ET 3/22/18.

Docket Numbers: ER18-944-000.

Applicants: ISO New England Inc., New England Power Pool Participants Committee.

Description: § 205(d) Rate Filing: Tariff Revisions Related to a Market Participant's FCM Financial Assurance Req. to be effective 6/1/2018.

Filed Date: 3/1/18.

Accession Number: 20180301-5158.

Comments Due: 5 p.m. ET 3/22/18.

Docket Numbers: ER18-945-000.

Applicants: Mid-Atlantic Interstate Transmission, LL, Trans-Allegheny Interstate Line Company, PJM Interconnection, L.L.C.

Description: § 205(d) Rate Filing: MAIT and TrAIL Co submit Interconnection Agreement Nos. 3743, 4577 and 4578 to be effective 2/1/2017.

Filed Date: 3/1/18.

Accession Number: 20180301-5198.

Comments Due: 5 p.m. ET 3/22/18.

Docket Numbers: ER18-946-000.

Applicants: Alabama Power Company.

Description: § 205(d) Rate Filing: Pulaski County Solar 2 (Hawkinsville 2 Solar) LGIA Filing to be effective 2/14/2018.

Filed Date: 3/1/18.

Accession Number: 20180301-5216.

Comments Due: 5 p.m. ET 3/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2018.
Nathaniel J. Davis, Sr.,
Deputy Secretary.

[FR Doc. 2018-04594 Filed 3-6-18; 8:45 am]

BILLING CODE 6717-01-P